DEPARTMENT OF TRANSPORTATION

Federal Aviation Administration

RTCA Special Committee 198: Next-Generation Air/Ground Communications System (NEXCOM)

AGENCY: Federal Aviation Administration (FAA), DOT.

ACTION: Notice of RTCA Special Committee 198 meeting.

SUMMARY: The FAA is issuing this notice to advise the public of a meeting of RTCA Special Committee 198: Next-Generation Air/Ground Communications System (NEXCOM).

DATES: The meeting will be held on October 8-10, 2002, starting at 9 a.m.

ADDRESSES: The meeting will be held at RTCA, 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., appendix 2), notice is hereby given for a Special Committee 198 meeting. The agenda will include:

• October 8:

• Opening Plenary Session (Welcome and Introductory Remarks, Review Agenda and Minutes of Previous Meeting)

• Status of Working Group 4, VHF Data Link (VDL)-3 Implementation

• Status of Working Group 5, Operational Safety Analysis, System Performance Requirements (OHA/SPR), for NEXCOM VDL-3

• Status of Working Group 6, Interoperability of NEXCOM

• Resolve Final Review and Comments (FRAC) on draft WG-5 document DO-XXX, OHA/SPR for NEXCOM VDL-3 for plenary approval

• October 9:

• Continue resolution of FRAC comments on draft WG-5 document DO-XXX, OHA/SPR for NEXCOM VDL-3, for plenary approval

• October 10:

• WG-4, NEXCOM Transition

• WG-6, Interoperability of NEXCOM VDL Mode 3

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 4, 2002.
Janice L. Peters,
FAA Special Assistant, RTCA Advisory Committee.

[FR Doc. 02-23116 Filed 9-11-02; 8:45 am]

BILLING CODE 4910-13-M